FEDERAL COMMUNICATIONS COMMISSION

[OMB 3060-1129]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid OMB control number. No person shall be subject to any penalty for failing to comply with a collection of information subject to the PRA that does not display a valid OMB control number.

DATES: Written PRA comments should be submitted on or before April 18, 2016. If you anticipate that you will be submitting comments, but find it difficult to do so within the period of time allowed by this notice, you should advise the contact listed below as soon as possible.

ADDRESSES: Direct all PRA comments to Nicole Ongele, FCC, via email to PRA@fcc.gov and to Nicole.Ongele@fcc.gov.

FOR FURTHER INFORMATION CONTACT: For additional information about the information collection, contact Nicole Ongele at (202) 418-2991.

SUPPLEMENTARY INFORMATION: OMB Control Number: 3060-1129.

Title: Broadband Speed Test and Unavailability Registry.

Form Number: N/A.

Type of Review: Extension of a currently approved collection.

Respondents: Individuals and households.

Number of Respondents and Responses: 7,300 respondents; 7,300 responses.

Estimated Time per Response: .017 hours.

Frequency of Response: On occasion reporting requirement, and third party disclosure requirement.

Obligation to Respond: Required to obtain or retain benefits. Statutory authority for this information collection is contained in Public Law 111-5, American Reinvestment and Recovery Act of 2009; Public Law 110-385, Broadband Data Improvement Act of 2008, 47 U.S.C. 103(c)(1).

Total Annual Burden: 124 hours.

Total Annual Cost: No cost.

Privacy Impact Assessment: Yes. The Commission will retain the street and IP address information obtained from participants in the speed test. The Commission will not release individual personally identifiable information (PII) to the public. As noted in the supporting statement, page 2, the FCC is committed to protecting the PII that is being collected, stored, maintained, and used as part of the Broadband Plan and the Broadband Map and the related impact studies and filing processes.

Nature and Extent of Confidentiality: The Commission is not requesting that respondents submit confidential information to the Commission. If the Commission requests that respondents submit information which respondents believe is confidential, respondents may request confidential treatment of such information pursuant to section 0.459 of the Commission's rules, 47 CFR 0.459. The FCC has a system of records, FCC/OSP-1, “Broadband Dead Zone Report and Consumer Broadband Test,” to cover the collection, purpose(s), storage, safeguards, and disposal of the personally identifiable information (PII) that individuals may submit to enable these U.S. residents to voluntarily report the unavailability of broadband service at the household street address level and to test the speed and quality of their broadband service and to provide the Commission with unique data on household availability of broadband and on relative broadband speeds.

Needs and Uses: The Commission will submit this expiring information collection to the Office of Management and Budget (OMB) after this comment period to obtain the full, three year clearance from them. The Commission is seeking an extension for these requirements. There is no change in the Commission's previous burden estimates.

The Broadband Data Improvement Act of 2008, Public Law 110-385, Stat 4096, section 103(c)(1) directs the Commission to collect information on the types of technology used to provide broadband to large businesses and small businesses, the price of such services, actual data transmission speeds and the reasons for non-adoption of broadband service. Additionally, the FCC in the 2008 Broadband Data Gather Order (23FCC Rcd at 9699, para. 18, 73 FR 37869,73 FR 37911), instructs the Commission to “design and implement a voluntary system that households may use to report availability and speed of broadband Internet access service at their premises.”

The purpose of this collection is to enable residents of the United States to voluntarily report the unavailability of broadband service at the household street address level and to test the speed and quality of their broadband service. This collection will provide the Commission with unique data on household availability of broadband and on relative broadband speeds.

Federal Communications Commission.
Marlene H. Dortch,
Secretary.

[FR Doc. 2016-03080 Filed 2-16-16; 8:45 am]

BILLING CODE 6712-01-P